ENVIRONMENTAL PROTECTION AGENCY

40 CFR Part 63

[EPA-HQ-OAR-2018-0417; FRL-9990-35-OAR]

RIN 2060-AT74

National Emission Standards for Hazardous Air Pollutants: Hydrochloric Acid Production Residual Risk and Technology Review

AGENCY: Environmental Protection Agency (EPA).

ACTION: Notice of public hearing and extension of public comment period.

SUMMARY: On February 4, 2019, the Environmental Protection Agency (EPA) published a document in the Federal Register to announce its proposed National Emission Standards for Hazardous Air Pollutants: Hydrochloric Acid Production Residual Risk and Technology Review. The document also requested public comment on the proposed action. The EPA is announcing that it will hold a public hearing to provide interested parties the opportunity to present data, views, or arguments concerning the proposed action. In addition, the EPA will extend the public comment period.

DATES: Public Hearing: The EPA will hold a public hearing on March 27, 2019, in Washington, DC. The deadline for accepting written comments is being extended by 36 days, to April 26, 2019. Please refer to the SUPPLEMENTARY INFORMATION section for additional information on the public hearing.

ADDRESSES: The hearing will be held at the EPA WJC East Building, 1201 Constitution Avenue NW, Room 1153, Washington, DC 20004. The hearing will convene at 9:00 a.m. (local time) and will conclude at 5:00 p.m. If there are no additional registered speakers, the EPA will end the hearing 2 hours after the last registered speaker has concluded their comments. The EPA's website for this rulemaking, which includes the proposal and information about the hearing, can be found at: https://www.epa.gov/stationary-sources-air-pollution/hydrochloric-acid-production-national-emission-standards-hazardous. Written comments on the proposed rule may be submitted to the EPA electronically, by mail, facsimile, or through hand delivery/courier. Please refer to the proposal (84 FR 1570) for the addresses and detailed instructions.

Because this hearing is being held at a U.S. government facility, individuals planning to attend the hearing should be prepared to show valid picture identification to the security staff to gain access to the meeting room. Please note that the REAL ID Act, passed by Congress in 2005, established new requirements for entering federal facilities. For purposes of the REAL ID Act, the EPA will accept government-issued IDs, including driver's licenses from the District of Columbia and all states and territories. Acceptable alternative forms of identification include: Federal employee badges, passports, enhanced driver's licenses, and military identification cards. Additional information on the REAL ID Act is available at: https://www.dhs.gov/real-id.

Any objects brought into the building need to fit through the security screening system, such as a purse, laptop bag, or small backpack. Demonstrations will not be allowed on federal property for security reasons.

FOR FURTHER INFORMATION CONTACT: The EPA will begin pre-registering speakers for the hearing upon publication of this document in the Federal Register. To register to speak at the hearing, please use the online registration form available at https://www.epa.gov/stationary-sources-air-pollution/hydrochloric-acid-production-national-emission-standards-hazardous or contact Nancy Perry at (919) 541-5628 or at perry.nancy@epa.gov. The last day to pre-register to speak at the hearing will be March 25, 2019. On March 26, 2019, the EPA will post at https://www.epa.gov/stationary-sources-air-pollution/hydrochloric-acid-production-national-emission-standards-hazardous a general agenda for the hearing that will list pre-registered speakers in approximate order. The EPA will make every effort to follow the schedule as closely as possible on the day of the hearing; however, please plan for the hearing to run either ahead of schedule or behind schedule.

Additionally, requests to speak will be taken the day of the hearing at the hearing registration desk. The EPA will make every effort to accommodate all speakers who arrive and register, although preferences on speaking times may not be able to be fulfilled.

SUPPLEMENTARY INFORMATION: Each commenter will have 5 minutes to provide oral testimony. The EPA encourages commenters to provide the EPA with a copy of their oral testimony electronically (via email) or in hard copy form.

The EPA may ask clarifying questions during the oral presentations but will not respond to the presentations at that time. Written statements and supporting information submitted during the comment period will be considered with the same weight as oral comments and supporting information presented at the public hearing. Commenters should notify Nancy Perry if they will need specific equipment or if there are other special needs related to providing comments at the hearings. Verbatim transcripts of the hearings and written statements will be included in the docket for the rulemaking.

Please note that any updates made to any aspect of the hearing will be posted online at https://www.epa.gov/stationary-sources-air-pollution/hydrochloric-acid-production-national-emission-standards-hazardous. While the EPA expects the hearing to go forward as set forth above, please monitor our website or contact Nancy Perry at (919) 541-5628 or perry.nancy@epa.gov to determine if there are any updates. The EPA does not intend to publish a document in the Federal Register announcing updates.

The EPA will not provide audiovisual equipment. Commenters should notify Nancy Perry when they pre-register to speak that they will require the service of a translator or special accommodations such as audio description. The EPA may not be able to arrange accommodations without advanced notice.

Dated: February 28, 2019.
Panagiotis Tsirigotis,
Director, Office of Air Quality Planning and Standards.

[FR Doc. 2019-04002 Filed 3-5-19; 8:45 am]

BILLING CODE 6560-50-P